DEPARTMENT OF TRANSPORTATION

Maritime Administration

Marine Transportation System National Advisory Council

ACTION: National Advisory Council public meeting.

SUMMARY: The Maritime Administration announces that the Marine Transportation System National Advisory Council (MTSNAC) will hold a meeting to discuss progress on public and private sector recommendations from the Council's Intermodal Report, expanded MTS education outreach, and regional MTS activities. A public comment period is scheduled for 9:30 a.m. to 10 a.m. on Thursday, May 10, 2007. To provide time for as many people to speak as possible, speaking time for each individual will be limited to three minutes. Members of the public who would like to speak are asked to contact Richard J. Lolich by May 2, 2007. Commenters will be placed on the agenda in the order in which notifications are received. If time allows, additional comments will be permitted. Copies of oral comments must be submitted in writing at the meeting. Additional written comments are welcome and must be filed by May 18, 2007.

DATES: The meeting will be held on Wednesday, May 9, 2007, from 9 a.m. to 5 p.m. and Thursday, May 10, 2007, from 9 a.m. to 12 p.m.

ADDRESSES: The meeting will be held in the Hyatt Regency O'Hare, 9300 W. Bryn Mawr Avenue, Rosemont, IL 60018. The hotel's phone number is 847-696-1234.

FOR FURTHER INFORMATION CONTACT: Richard Lolich, (202) 366-7678; Maritime Administration, MAR-830, Room 7201, 400 Seventh St., SW., Washington, DC 20590; richard.lolich@dot.gov.

(Authority: 49 CFR 1.66)

Dated: April 19, 2007.
Daron T. Threet,
Secretary, Maritime Administration.

[FR Doc. 07-2109 Filed 4-25-07; 4:12 pm]

BILLING CODE 4910-81-P